DEPARTMENT OF HEALTH AND HUMAN SERVICES

Centers for Disease Control and Prevention

[60Day-0923-0039]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Tremolite Asbestos Registry (TAR) OMB# 0923-0039—Extension—Agency for Toxic Substances and Disease Registry, (ATSDR) Centers for Disease Control and Prevention, (CDC).

Background and Brief Description

The Agency for Toxic Substances and Disease Registry (ATSDR) is mandated pursuant to the 1980 Comprehensive Environmental Response Compensation and Liability Act (CERCLA) and its 1986 Amendments, the Superfund Amendments and Re-authorization Act (SARA), to establish and maintain national registries of persons who have been exposed to hazardous substances in the environment and national registries of persons with illnesses or health problems resulting from such exposure. In 2003, ATSDR created the Tremolite Asbestos Registry (TAR) as a result of this legislation in an effort to provide scientific information about potential adverse health effects people develop as a result of exposure to the amphibole fibers that are found in vermiculite mined from Libby, Montana. The purpose of the TAR is to improve communication with people at risk for developing asbestos-related diseases resulting from exposure in Libby, Montana and to support research activities related to TAR registrants. The TAR is currently composed of information about former vermiculite workers, the people that lived with them during their tenure as vermiculite workers (i.e., the workers' household contacts), and people who participated in screening programs funded by ATSDR conducted in Libby and other sites that received Libby vermiculite. TAR participants are interviewed to collect information on exposure pathways, tobacco use, and health outcomes. The standardized TAR survey is administered using a computer-assisted personal interview instrument.

There is no cost to the respondents other than their time.

Estimated Annualized Burden Hours
Respondents | Forms | Number of respondents | Responses per respondent | Avg. burden per response (in hrs.) | Total burden hours
TAR Participants | Baseline TAR questionnaire | 500 | 1 | 30/60 | 250
| Follow-up questionnaire | 4,500 | 1 | 20/60 | 1,500
Total |  |  |  | 1,750

Dated: May 1, 2009.
Marilyn S. Radke,
Reports Clearance Officer, Centers for Disease Control and Prevention.

[FR Doc. E9-10617 Filed 5-6-09; 8:45 am]

BILLING CODE 4163-18-P